DEPARTMENT OF LABOR

Mine Safety and Health Administration

Affirmative Decisions on Petitions for Modification Granted in Whole or in Part

AGENCY: Mine Safety and Health Administration (MSHA), Labor.

ACTION: Notice.

SUMMARY: Section 101(c) of the Federal Mine Safety and Health Act of 1977 and 30 CFR part 44 govern the application, processing, and disposition of petitions for modification. This Federal Register Notice notifies the public that MSHA has investigated and issued a final decision on certain mine operator petitions to modify a safety standard.

ADDRESSES: Copies of the final decisions are posted on MSHA's Web site at http://www.msha.gov/READROOM/PETITION.HTM. The public may inspect the petitions and final decisions during normal business hours in MSHA's Office of Standards, Regulations, and Variances, 201 12th Street South, Suite 4E401, Arlington, Virginia 22202. All visitors are required to check in at the receptionist's desk in Suite 4E401.

FOR FURTHER INFORMATION CONTACT: Barbara Barron at 202-693-9447 (Voice), barron.barbara@dol.gov (Email), or 202-693-9441 (Telefax). [These are not toll-free numbers].

SUPPLEMENTARY INFORMATION:

I. Introduction

Under section 101 of the Federal Mine Safety and Health Act of 1977, a mine operator may petition and the Secretary of Labor (Secretary) may modify the application of a mandatory safety standard to that mine if the Secretary determines that: (1) An alternative method exists that will guarantee no less protection for the miners affected than that provided by the standard; or (2) the application of the standard will result in a diminution of safety to the affected miners.

MSHA bases the final decision on the petitioner's statements, any comments and information submitted by interested persons, and a field investigation of the conditions at the mine. In some instances, MSHA may approve a petition for modification on the condition that the mine operator complies with other requirements noted in the decision.

II. Granted Petitions for Modification

On the basis of the findings of MSHA's investigation, and as designee of the Secretary, MSHA has granted or partially granted the following petitions for modification:

• Docket Number: M-2010-047-C.

FR Notice: 76 FR 2724 (1/14/2011).

Petitioner: Canyon Fuel Company, LLC, 597 South SR 24, Salina, Utah 84654.

Mine: Sufco Mine, MSHA I.D. No. 42-00089, located in Sevier County, Utah.

Regulation Affected: 30 CFR 75.500(d) (Permissible electric equipment).

• Docket Number: M-2013-056-C.

FR Notice: 79 FR 11140 (2/27/2014).

Petitioner: Kimmel's Mining, Inc., P.O. Box 8, Williamstown, Pennsylvania 17098.

Mine: Williamstown Mine #1, MSHA I.D. No. 36-09435, located in Dauphin County, Pennsylvania.

Regulation Affected: 30 CFR 75.1002(a) (Installation of electric equipment and conductors; permissibility).

• Docket Number: M-2014-024-C.

FR Notice: 79 FR 45466 (8/5/2014).

Petitioner: ACI Tygart Valley, 1200 Tygart Valley Drive, Grafton, West Virginia 26354.

Mine: Leer Mine, MSHA I.D. No. 46-09192, located in Taylor County, West Virginia.

Regulation Affected: 30 CFR 75.507-1(a) (Electric equipment other than power-connection points; outby the last open crosscut; return air; permissibility requirements).

• Docket Number: M-2015-017-C.

FR Notice: 80 FR 54595 (9/10/2015).

Petitioner: ICG Illinois, LLC, 5945 Lester Road, Williamsville, Illinois 62693.

Mine: Viper Mine, MSHA I.D. No. 11-02664, located in Sangamon County, Illinois.

Regulation Affected: 30 CFR 75.312(c) (Main mine fan examinations and records).

• Docket Number: M-2015-026-C.

FR Notice: 81 FR 3161 (1/20/2016).

Petitioner: Lone Mountain Processing, Inc., Drawer C, St. Charles, Virginia 24282.

Mine: Clover Fork No. 1 Mine, MSHA I.D. No. 15-18647, Huff Creek No. 1 Mine, MSHA I.D. No. 15-17234, Darby Fork No. 1 Mine, MSHA I.D. No. 15-02263-02664, located in Harlan County, Kentucky.

Regulation Affected: 30 CFR 75.310(a)(3) (Installation of main mine fans).

• Docket Number: M-2016-008-C.

FR Notice: 81 FR 21904 (4/13/2016).

Petitioner: Rosebud Mining Company, 301 Market Street, Kittanning, Pennsylvania 16201.

Mine: Barrett Mine, MSHA I.D. No. 36-09342, located in Indiana County, Pennsylvania.

Regulation Affected: 30 CFR 75.503 (Permissible electric face equipment; maintenance).

• Docket Number: M-2016-010-C.

FR Notice: 81 FR 24892 (4/27/2016).

Petitioner: Buckingham Coal Company, LLC, 14755 Township Rd, 295 S E, Glouster, Ohio 45732.

Mine: Buckingham Mine #6, MSHA I.D. No. 33-04526, located in Perry County, Ohio.

Regulation Affected: 30 CFR 75.1101-1(b) (Deluge-type water spray systems).

• Docket Number: M-2016-022-C.

FR Notice: 81 FR 47421 (7/21/2016).

Petitioner: ACI Tygart Valley, 1200 Tygart Drive, Grafton, West Virginia 26354.

Mine: Leer Mine, MSHA I.D. No. 46-09192, located in Taylor County, West Virginia.

Regulation Affected: 30 CFR 75.1904(b)(6) (Underground diesel fuel tanks and safety cans).

Sheila McConnell,
Director, Office of Standards, Regulations, and Variances.

[FR Doc. 2017-06339 Filed 3-30-17; 8:45 am]

BILLING CODE 4520-43-P